DEPARTMENT OF THE INTERIOR

Bureau of Land Management

[75% to CO-956-1420-BJ-0000-241A; 8.333% to CO-956-1420-BJ-CAPD-241A; 8.333% to CO-956-1420-BJ-TRST-241A; 8.333% to CO-956-9820-BJ-CO01-241A]

Colorado: Filing of Plats of Survey

April 12, 2004.

SUMMARY: The plats of survey of the following described land will be officially filed in the Colorado State Office, Bureau of Land Management, Lakewood, Colorado, effective 10 a.m., April 12, 2004. All inquiries should be sent to the Colorado State Office, Bureau of Land Management, 2850 Youngfield Street, Lakewood, Colorado 80215-7093.

The plat representing the dependent resurveys and surveys in Township 36 North, Range 18 West, New Mexico Principal Meridian, Group 1316, Colorado, was accepted January 30, 2004.

The plat representing the dependent resurveys and surveys in Township 1 North, Range 84 West, Sixth Principal Meridian, Group 1365, Colorado, was accepted February 11, 2004.

The plat representing the dependent resurveys and surveys in Township 1 North, Range 85 West, Sixth Principal Meridian, Group 1365, Colorado, was accepted February 11, 2004.

The plat representing the dependent resurveys and surveys in Township 1 South, Range 85 West, Sixth Principal Meridian, Group 1365, Colorado, was accepted February 11, 2004.

The plat (in 2 sheets), representing the entire record of the dependent resurveys and surveys in Township 17 South, Range 68 West, Sixth Principal Meridian, Group 1329, Colorado, was accepted February 25, 2004.

The plat representing the dependent resurveys and surveys in Township 8 North, Range 92 West, Sixth Principal Meridian, Group 1355, Colorado, was accepted March 4, 2004.

The plat representing the entire record of the dependent resurvey in Township 5 North, Range 60 West, Sixth Principal Meridian, Group 1408, Colorado, was accepted March 8, 2004.

The plat representing the dependent resurveys and surveys in Township 9 South, Range 103 West, Sixth Principal Meridian, Group 1350, Colorado, was accepted March 17, 2004.

The supplemental plat creating new lots in sections 9, 14, 15, and 23, Township 40 North, Range 2 West, New Mexico Principal Meridian, Colorado, was accepted January 14, 2004.

These surveys and plats were requested by the Bureau of Land Management for administrative and management purposes.

The plat representing the dependent resurveys and surveys, in Township 13 South, Range 67 West, Sixth Principal Meridian, Group 1308, Colorado, was accepted February 23, 2004.

The plats (in 6 sheets) representing Amended Protraction Diagram Number 1, for Townships 3, 4, and 5 North, Ranges 73, 75 and 76 West, Sixth Principal Meridian, Colorado, was accepted March 22, 2004.

These surveys and plats were requested by the U.S. Forest Service for administrative and management purposes.

The plat representing the dependent resurveys and surveys in Township 32 North, Range 3 West, New Mexico Principal Meridian, Group 1253, Colorado, was accepted February 5, 2004.

This survey and plat was requested by the Southern Ute Indian Tribe, through the Bureau of Indian Affairs, Albuquerque, New Mexico for administrative and management purposes.

Paul Lukacovic,
Acting Chief Cadastral Surveyor for Colorado.

[FR Doc. 04-8969 Filed 4-20-04; 8:45 am]

BILLING CODE 4310-JB-P